NUCLEAR REGULATORY COMMISSION

[Docket No. 40-8943-MLA; ASLBP No. 07-859-03-MLA-BD01]

Crow Butte Resources, Inc. (North Trend Expansion Project); Notice of Atomic Safety and Licensing Board Reconstitution

Pursuant to 10 CFR 2.313(c) and 2.321(b), the Atomic Safety and Licensing Board in the above-captioned North Trend Expansion Project license amendment proceeding is hereby reconstituted as follows: Administrative Judge Richard E. Wardwell is appointed to serve in place of Administrative Judge Frederick W. Oliver, who will retire at the end of this month; and Administrative Judge Nicholas G. Trikouros is appointed to serve in place of Administrative Judge Richard F. Cole, who passed away in December 2014.¹

¹ Only two judges have been sitting on this Licensing Board since Judge Cole's passing. This Notice restores the number of sitting judges to three.

All correspondence, documents, and other materials shall continue to be filed in accordance with the NRC E-Filing rule. See 10 CFR 2.302 et seq.

Rockville, Maryland, June 18, 2018.
Edward R. Hawkens,
Chief Administrative Judge, Atomic Safety and Licensing Board Panel.

[FR Doc. 2018-13387 Filed 6-21-18; 8:45 am]

BILLING CODE 7590-01-P